DEPARTMENT OF HEALTH AND HUMAN SERVICES

Agency for Healthcare Research and Quality

Agency Information Collection Activities: Proposed Collection; Comment Request

AGENCY: Agency for Healthcare Research and Quality, Department of Health and Human Services.

ACTION: Notice.

SUMMARY: This notice announces the intention of the Agency for Healthcare Research and Quality (AHRQ) to request that the Office of Management and Budget (OMB) allow the renewal of the generic information collection project: “Voluntary Customer Surveys Generic Clearance for the Agency for Healthcare Research and Quality.” In accordance with the Paperwork Reduction Act of 1995, Public Law 104-13 (44 U.S.C. 3506(c)(2)(A)), AHRQ invites the public to comment on this proposed information collection.

This proposed information collection was previously published in the Federal Register on August 3, 2007 and allowed 60 days for public comment. No comments were received. A 30-day Federal Register notice was published on October 11th, 2007 to allow an additional 30 days for public comment. No comments were received. However, changes to the estimated annual respondent burden hours and the methodologies that will be used for the data collection require an additional 30 days for public comment.

DATES: Comments on this notice must be received by December 19, 2007.

ADDRESSES: Written comments should be submitted to: AHRQ's OMB Desk Officer by fax at (202) 395-6974 (attention: AHRQ's desk officer) or by e-mail at OIRA_submission@omb.eop.gov (attention: AHRQ's desk officer). Copies of the proposed collection plans, data collection instruments, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

“Voluntary Customer Surveys Generic Clearance for the Agency for Healthcare Research and Quality.”

In response to Executive Order 12862, the Agency for Healthcare Research and Quality (AHRQ) plans to conduct voluntary customer surveys to assess strengths and weaknesses in agency program services. Customer surveys to be conducted by AHRQ may include readership surveys from individuals using AHRQ automated and electronic technology databases to determine satisfaction with the information provided or surveys to assess effect of the grants streamlining efforts. Results of these surveys will be used in future program planning initiatives and to redirect resources and efforts, as needed, to improve AHRQ program services. The current clearance will expire January 31, 2008. This is a request for a generic approval from OMB to conduct customer surveys over the next three years.

Methods of Collection

The data will be collected using a combination of methodologies appropriate to each survey. These methodologies include:

• Mail/e-mail surveys;

• Telephone surveys;

• Web-based surveys;

• Focus groups;

• In-person surveys.

Estimated Annual Respondent Burden
Type of information collection | Number of respondents | Number of responses per respondent | Hours per response | Total burden hours
Mail/e-mail * | 51,000 | 1 | 15/60 | 12,750
Telephone | 200 | 1 | 40/60 | 134
Web-based | 52,000 | 1 | 10/60 | 8,667
Focus Groups | 200 | 1 | 2.0 | 400
In-person | 200 | 1 | 50/60 | 167
Total | 103,600 | na | na | 22,118
* May include telephone non-response follow-up in which case the burden will not change.

This information collection will not impose a cost burden on the respondents beyond that associated with their time to provide the required data. There will be no additional costs for capital equipment, software, computer services, etc.

Estimated Annual Costs to the Federal Government

The mail and telephone surveys and focus groups will in some cases be carried out under contract. Assuming the contract cost per survey is $50,000-$100,000, and for each focus group is $20,000, total contract costs could be $720,000 per year.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: November 8, 2007.
Carolyn M. Clancy,
Director.

[FR Doc. 07-5734 Filed 11-16-07; 8:45 am]

BILLING CODE 4160-90-M